DEPARTMENT OF ENERGY

Senior Executive Service Performance Review Board

AGENCY: Department of Energy.

ACTION: Designation of Performance Review Board Standing Register.

SUMMARY: This notice provides the Performance Review Board Standing Register for the Department of Energy. This listing supersedes all previously published lists of PRB members.

DATES: This appointment is effective as of September 30, 2016.

Beausoleil, Geoffrey

Bremer, John

Durant, Charles

Dixon, Robert

Furrer, Robin

Grose, Amy

Kaplan, Stan

Lee, Terri

Mays, Cyndi

Moore, Johnny

O'Konski, Peter

Picha, Kenneth

Purucker, Roxanne

Robbins, Teresa

Schreiber, Berta

Smith, Kevin

Snyder, Roger

Tyner, Teresa

Issued in Washington, DC, October 18, 2016.
Erin S. Moore,
Director, Office of Corporate Executive Management, Office of the Chief Human Capital Officer.

[FR Doc. 2016-25760 Filed 10-24-16; 8:45 am]

BILLING CODE 6450-01-P